DEPARTMENT OF HEALTH AND HUMAN SERVICES

Health Resources and Services Administration

Agency Information Collection Activities: Proposed Collection: Public Comment Request Information Collection Request Title: Ryan White HIV/AIDS Program Client-Level Data Reporting System, OMB No. 0906-XXXX—New

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than January 26, 2018.

ADDRESSES: Submit your comments to paperwork@hrsa.gov or mail the HRSA Information Collection Clearance Officer, Room 14N39, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference, pursuant to Section 3506(c)(2)(A), the Paperwork Reduction Act of 1995.

Information Collection Request Title: Client-Level Data Reporting System OMB No. 0906-XXXX—New.

Abstract: The Ryan White HIV/AIDS Program's (RWHAP) client-level data reporting system, entitled the RWHAP Services Report or the Ryan White Services Report (RSR), is designed to collect information from grant recipients, as well as their subcontracted service providers, funded under Parts A, B, C, and D of the RWHAP legislation. The RWHAP, authorized under Title XXVI of the Public Health Service Act, as amended by the Ryan White HIV/AIDS Treatment Extension Act of 2009, is administered by the HIV/AIDS Bureau (HAB) within the Health Resources and Services Administration (HRSA). The RWHAP awards funding to recipients to respond effectively to the changing HIV epidemic, with an emphasis on providing life-saving and life-extending services for people living with HIV in the United States, as well as to target resources to areas that have the greatest needs.

Need and Proposed Use of the Information: All Parts of the RWHAP specify HRSA's responsibilities in administering grant funds, allocating funding, assessing HIV care outcomes (e.g., viral suppression) and populations served. The RSR will collect data on the characteristics of RWHAP-funded recipients, their contracted service providers, and the patients or clients served. The RSR system will consist of two online data forms, the Recipient Report and the Service Provider Report, as well as a data file containing the client-level data elements. Data will be submitted annually. The RWHAP statute specifies the importance of recipient accountability and linking performance to budget. The RSR will be used to ensure recipient compliance with the law, including evaluating the effectiveness of programs, monitoring recipient and provider performance, and informing annual reports to Congress. Information collected through the RSR will be critical for HRSA, state and local grant recipients, and individual providers to assess the status of existing HIV-related service delivery systems, assess trends in service utilization, assess the impact of data reporting and identify areas of greatest need.

This new ICR is being developed to replace the existing ICR (OMB control number 0915-0323), for which HRSA has collected RSR data since 2009. These revisions will account for significant modifications to several variables within the client report and XML file, which will improve data quality and align data collection efforts with recent Policy Clarification Notices (PCN 16-02). HRSA will continue to collect and report the client-level data elements supplied by the existing ICR through 2019. In 2019, the existing ICR will expire and HRSA will collect and report on the data elements defined in the new ICR. While there will be no overlap in the data collected and reported between the existing and new ICR, HRSA is submitting this new ICR in tandem with the existing ICR to allow recipients the ability to make modifications to their RSR systems between the two reporting periods, and continue to collect and report on both the old and new variables without interruption.

Likely Respondents: RWHAP Part A, Part B, Part C, and Part D recipients and their contracted service providers.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Grantee Report | 595 | 1 | 595 | 7 | 4,165
Provider Report | 1793 | 1 | 1793 | 17 | 30,481
Client Report | 1,312 | 1 | 1,312 | 67 | 87,904
Total | 3,700 |  | 3,700 |  | 122,550

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Amy McNulty,
Acting Director, Division of the Executive Secretariat.

[FR Doc. 2017-25510 Filed 11-24-17; 8:45 am]

BILLING CODE 4165-15-P